DEPARTMENT OF TRANSPORTATION

National Highway Traffic Safety Administration

[Docket No. NHTSA-2017-0081]

Traffic Records Program Assessment Advisory; Notice of Availability

AGENCY: National Highway Traffic Safety Administration (NHTSA), Department of Transportation (DOT).

ACTION: Notice of availability.

SUMMARY: States need timely, accurate, complete, accessible, and uniform traffic records to identify and prioritize traffic safety issues and to choose appropriate safety countermeasures and evaluate their effectiveness. Traffic records program assessments provide States with the information needed to plan traffic records improvement projects. The National Highway Traffic Safety Administration (NHTSA) announces the availability of a revised Traffic Records Program Assessment Advisory following review of comments received from States, associations, non-profit organizations, and individuals.

FOR FURTHER INFORMATION CONTACT:

For programmatic issues: John Siegler, Office of Traffic Records and Analysis, NSA-221, National Highway Traffic Safety Administration, 1200 New Jersey Avenue SE, Washington, DC 20590. Telephone (202) 366-1268; email: John.Siegler@dot.gov.

For legal issues: Megan Brown, Attorney-Advisor, Office of the Chief Counsel, NCC-300, National Highway Traffic Safety Administration, 1200 New Jersey Avenue SE, Washington, DC 20590; telephone: (202) 366-1834; email: Megan.Brown@dot.gov.

SUPPLEMENTARY INFORMATION:

I. Background

States need timely, accurate, complete, uniform, integrated, and accessible traffic records data to identify and prioritize traffic safety issues, and choose appropriate safety countermeasures and evaluate their effectiveness. The purpose of traffic records assessments is to provide States with useful information on the status of the many systems that make up the traffic records system.

Federal statute requires States to certify that “an assessment of the State's highway safety data and traffic records system was conducted or updated during the preceding 5 years” in order to qualify for a State traffic safety information system improvements grant. 23 U.S.C. 405(c). NHTSA regulations require that the assessment comply with “procedures and methodologies” outlined by NHTSA. 23 CFR 1300.22(b)(4). NHTSA published the Traffic Records Program Assessment Advisory (Advisory) (DOT HS 811 644) in 2012 to provide guidance on conducting these assessments.

This notice announces the availability of a revised Traffic Records Program Assessment Advisory following review of comments received from States, associations, non-profit organizations, and individuals.

II. Comments

NHTSA received submissions from 23 commenters in response to the October 25, 2017 request for comment. 82 FR 49473-49475. Commenters included the following eleven State agencies and commissions: California Office of Traffic Safety (CA OTS); Colorado Department of Transportation (CO DOT); Connecticut Department of Transportation (CT DOT); Delaware Office of Highway Safety (DE OHS); Massachusetts Department of Public Health (MA DPH); Michigan Crash Section (MI Crash); New York State Governor's Traffic Safety Committee (NY GTSC); Injury and Violence Prevention Branch of the NC Division of Public Health (NC DPH); Puerto Rico Traffic Safety Commission (PR TSC); joint submission by the Washington Traffic Safety Commission and Washington Traffic Records Committee (WA Traffic); and joint submission by the Departments of Transportation of Idaho, Montana, North Dakota, South Dakota & Wyoming (5-State DOTs). Three associations and consortiums provided comments: Association of Transportation Safety Information Professionals (ATSIP); Governor's Highway Safety Association (GHSA); and National Safety Council (NSC). One non-profit organization, Consumers Union (CU), provided comments. Eight individual commenters also provided comments: Brook Chipman; Joe McCarthy; Mario Damiata; Nathan Dean; Jay Wall; and three anonymous commenters. Of these comments, three were out of the scope of this notice.¹

¹ Two anonymous commenters commented on EPA regulatory issues. One anonymous commenter commented on electric vehicle batteries.

Three broad categories of comments accounted for more than half of the comments received: comments stating that the assessment is too burdensome, comments seeking more personalized recommendations, and comments seeking more in-person meetings as part of the assessment process.

Ten commenters, including States, associations and an individual, stated that the existing Traffic Records Assessment process is burdensome. Specifically, commenters stated that the assessment is burdensome due to the number of questions (some of which they consider redundant), the high standards of evidence required for responses, the time required to respond, and the number of agencies within the State that are required to participate in assessments.

Seven commenters, including States, associations, and individuals, requested that assessors provide more personalized recommendations to States at the conclusion of each assessment. Several commenters further asserted that it would be helpful to States if assessors prioritized the most important recommendations to assist States in planning traffic records improvement projects.

Twelve commenters, including States, associations, and individuals, argued that the assessment process would be easier and more useful if there were more opportunities for in-person meetings.

As a result of these comments, NHTSA has taken a fresh look at the Advisory, as it was not our intent to impose undue burdens on States. In revising the Advisory, we strove to provide maximum flexibility and reduce the burden on States, while still providing States with guidance and assistance in conducting assessments. Therefore, as explained further below, NHTSA has revised the Advisory to provide States with three options for conducting assessments. These options range from an entirely State-run assessment, in which States control the process and outcomes, to a self-assessment using questions provided by NHTSA, that will result in generalized recommendations, to a more detailed NHTSA-facilitated and funded assessment, which will include in-person meetings and will result in a personalized final report.

In addition to reducing burden on States by providing three options for conducting assessments, NHTSA strove to further reduce burden in the optional assessment questions provided in Appendix E of the Advisory. Previously the questions were required for all States and accounted for the majority of the Advisory. Now, however, those assessment questions have been reduced by 16 percent and States are not required to use the questions. The questions in Appendix E will be used only if a State opts to complete an assessment using NHTSA's questions. Several commenters offered suggestions for specific changes to the questions, which we will address briefly.

NY GTSC and the 5-State DOTs argued that using an “ideal” system as a baseline for the assessment sets an unattainable standard. The 5-State DOTs further requested that the Advisory not refer to findings as “deficiencies” because an “ideal” is not a real standard. While NHTSA understands that an “ideal” system is a very high standard, we believe that it provides a useful measure for States strive for, but we do not require States to meet the ideal. We agree that failure to meet an “ideal” does not represent a “deficiency” and have therefore replaced “deficiency” with “area of opportunity.”

Seven State commenters requested more flexibility in the evidence required to respond to each question. While States may choose their own standard of evidence when conducting a self-assessment under either of the first two assessment options provided in the new Advisory, NHTSA-facilitated assessments still require States to provide sufficient evidence. However, NHTSA agrees that this evidence may come in different forms. Therefore, NHTSA no longer prescribes “required evidence,” but instead provides guidance for “suggested evidence” that States may want to use to respond to each question.

Four commenters requested more flexibility in the structure of the Traffic Records Coordinating Committee. In response, NHTSA has updated both the TRCC narrative and questions to align with the best practices identified in the State Traffic Records Coordinating Committee Noteworthy Practices ² report, which focuses more on the responsibilities of the TRCC than a specific structure.

² Available online at https://www.transportation.gov/sites/dot.gov/files/docs/TRCC%20Noteworthy%20Practices%20Guide%20final%20september%202015.pdf.

GHSA suggested that all performance measure questions be combined into a single question in each section of the assessment. While that would reduce the number of questions, it would not reduce the burden on the State to respond to each performance measure and would make it more difficult to identify limitations in any specific performance measure. NHTSA declines to make this change.

The ID, MT, ND, SD, and WY DOTs commented that the advisory text implies that States are required to adopt elements beyond the MMUCC minimum and Joe McCarthy asked for clarification that MMUCC is voluntary. MMUCC is a voluntary standard. NHTSA's intent in the Advisory is to suggest that States can add the MMUCC elements and attributes that are unique to their own environment and operation. We have updated both the text of the Advisory and the questions to reflect this clarification. Several commenters (CO DOT, WA TSC & TRC, 5-State DOTs and Joe McCarthy) stated that the Roadway system outlined in the Advisory should be updated to match the requirements set out by the Federal Highway Administration's (FHWA) Highway Safety Improvement Program (HSIP). NHTSA agrees and has aligned the Advisory and questions to FHWA's required elements.

Three commenters (ATSIP, MA DPH, and NC DPH) found the Injury Surveillance System (ISS) section burdensome, stating that the number of questions in that section was disproportionate to the rest of the assessment questions. NHTSA recognizes that the ISS section has more questions than the other data system sections. However, the ISS system contains five separate component data systems, which is substantially more component data systems than the other sections. MA DPH asked whether the evidence provided for the Injury Surveillance System section of the assessment must be related to traffic data. States may provide any evidence from the system, regardless of whether it is traffic-related.

III. Overview of the Traffic Records Program Assessment Advisory

As highlighted above, NHTSA believes it is important to provide States with flexibility in meeting the requirement to conduct an assessment of the State's highway safety data and traffic records system. Therefore, the Advisory provides guidance on three different assessment processes so that States may choose the process that best fits their needs.

First, States may design their own assessment of their traffic safety information systems. NHTSA regulations require States to list all recommendations from their most recent highway safety data and traffic records system assessment and identify whether and how they intend to address those recommendations. 23 CFR 1300.22(b)(2)(ii-iv). A State's assessment should, therefore, result in a comprehensive set of recommendations that will improve the State traffic safety information systems and inform the State's traffic records strategic plan. The Advisory lays out noteworthy practices that States may wish to consider when assessing their data systems.

Second, NHTSA has developed a self-assessment tool that States may use. The assessment tool consists of a series of questions developed by NHTSA, with the input of subject matter experts, which will generate recommendations based on the States' responses. This assessment tool is available online at https://www.nhtsa.gov/research-data/traffic-records. The questions are in Appendix E of the Advisory.

Third, States may opt to participate in NHTSA's State Traffic Records Assessment Program (STRAP) at no cost to the State. STRAP is a peer assessment process using the questions from NHTSA's assessment tool. Qualified independent assessors will evaluate the State's responses and provide recommendations; specific and actionable considerations; and a final report. An experienced facilitator supports this process, which includes two onsite meetings and a webinar report-out.

Regardless of which process a State chooses to conduct its assessment, NHTSA GO Teams remain available to States who wish to apply for additional technical assistance. GO Teams provide technical expertise and guidance on specific small- to mid-scale projects that the States want to undertake but that may require other, specialized knowledge. Application forms are available on the NHTSA website http://www.nhtsa.gov/DOT/NHTSA/NVS/TrafficRecords/Training_Technical_Assistance_Application.docx.

The full Traffic Records Program Assessment Advisory is posted online at https://crashstats.nhtsa.dot.gov/Api/Public/ViewPublication/812601.

Authority: 23 U.S.C. Section 405(c)(3)(E).

Issued in Washington, DC.
Terry T. Shelton,
Associate Administrator, National Center for Statistics and Analysis.

[FR Doc. 2018-18325 Filed 8-23-18; 8:45 am]

BILLING CODE 4910-59-P